LEGAL SERVICES CORPORATION

Request for Comments: LSC Appropriations Request for FY 2015

AGENCY: Legal Services Corporation.

ACTION: Request for Comments: LSC Appropriations Request for FY 2015.

SUMMARY: The Legal Services Corporation (LSC) is developing its FY 2015 appropriations request to Congress and is seeking public comment and testimony on what the amount of its request should be.

DATES: Written comments must be received no later than 12 p.m., Eastern Daylight Time (EDT), on June 10, 2013. Please note that written comments mailed as of this time and date will not be considered. Requests to testify at the Finance Committee meeting on June 11, 2013 should be sent to David Richardson, by email at david.richardson@lsc.gov or by phone at (202) 295-1510, no later than 5:30 p.m., EDT, on Thursday June 6, 2013.

ADDRESSES: Written comments may be submitted by mail, fax or email to David L. Richardson, Treasurer, Legal Services Corporation, 3333 K Street NW., Washington, DC 20007; 202-337-6834 (fax); or david.richardson@lsc.gov.

FOR FURTHER INFORMATION CONTACT: David L. Richardson, Treasurer, Legal Services Corporation, 3333 K Street NW., Washington, DC 20007; 202-337-6834 (fax); 202-295-1510 (phone); or david.richardson@lsc.gov.

SUPPLEMENTARY INFORMATION: The mission of LSC is to provide funding for high-quality civil legal assistance to low-income persons and to promote equal access to justice in our Nation. LSC submits an annual budget request directly to Congress and receives an annual direct appropriation to carry out its mission. For the current fiscal year, FY 2013, LSC received an appropriation (after sequestration and two rescissions) of $339,926,165, of which $316,144,749 is for basic field programs and required independent audits; $3,901,639 is for the Office of Inspector General; $15,792,345 is for management and grants oversight; $3,158,470 is for technology initiative grants; and $928,962 is for loan repayment assistance. Public Law 113-006, 127 Stat. 267 (March 26, 2013).

The White House FY 2014 budget request to Congress included $430 million for LSC; the LSC Board submitted a FY 2014 appropriations request of $486 million.

As part of its annual budget process, LSC notifies the Office of Management and Budget (OMB) in September of its appropriations request for the fiscal year beginning October 1 of the following calendar year. The Finance Committee of the LSC Board of Directors will meet at 12 p.m., EDT, on June 11, 2013, to hear testimony from interested parties and commence deliberations on the Board's FY 2015 appropriations request. Anyone interested in providing testimony during the meeting should notify David Richardson, by email at david.richardson@lsc.gov or by phone at (202) 295-1510, no later than 5:30 p.m., Eastern Daylight Time, on Thursday June 6, 2013.

LSC invites public comment on what its FY 2015 appropriations request should be. LSC must receive all written comments no later than 12 p.m., EDT, on June 10, 2013. Please note that written comments mailed as of this time and date will not be considered. More information about LSC may be found at www.lsc.gov.

Dated: May 24, 2013.
Atitaya C. Rok,
Staff Attorney.

[FR Doc. 2013-12853 Filed 5-29-13; 8:45 am]

BILLING CODE 7050-01-P